DEPARTMENT OF STATE

22 CFR Parts 120, 121, and 126

[Public Notice: 12585; DOS-2024-0035]

RIN 1400-AE73

International Traffic in Arms Regulations: U.S. Munitions List Categories IV and XV; Extension of Comment Period

AGENCY: Department of State.

ACTION: Proposed rule; extension of comment period.

SUMMARY: The Department of State is extending the comment period for a proposed rule published on October 23, 2024. The original comment period required submission of comments on or before November 22, 2024. In response to requests from the public, the Department extends the comment period through December 23, 2024.

DATES: The comment period for the proposed rule published October 23, 2024, at 89 FR 84482, is extended. Comments should be received on or before December 23, 2024.

ADDRESSES: Interested parties may submit comments by one of the following methods:

• Email: DDTCPublicComments@state.gov with the subject line: “Regulatory Change: Categories IV and XV RIN 1400-AE73”.

• Internet: At www.regulations.gov, search for this notice, by docket number DOS-2024-0035. Additional instructions regarding submission of comments can be found in the document published at 89 FR 84482, October 23, 2024.

FOR FURTHER INFORMATION CONTACT: Mr. Robert Rasmussen, Office of Defense Trade Controls Policy, Department of State, telephone (202) 663-2217; email DDTCCustomerService@state.gov; SUBJECT: International Traffic in Arms Regulations: USML Categories IV and XV (RIN 1400-AE73).

SUPPLEMENTARY INFORMATION: On October 23, 2024, the Department of State published a proposed rule (89 FR 60980) proposing revisions to the International Traffic in Arms Regulations (ITAR, 22 CFR parts 120 through 130). Specifically, the publication proposed to amend the ITAR to revise U.S. Munitions List (USML) Categories IV and XV and related sections of the ITAR to clarify and standardize the regulatory text, add items that warrant designation on the USML, and remove those items that no longer warrant designation on the USML. The publication further proposed to add three new license exemptions to the ITAR and requested public comment by November 22, 2024. In response to requests received from the public to extend the comment period, the Department of State is extending the comment period for the proposed rule for an additional 30 days, through December 23, 2024.

Stanley L. Brown,
Acting Assistant Secretary, Bureau of Political-Military Affairs, Department of State.

[FR Doc. 2024-27059 Filed 11-15-24; 4:15 pm]

BILLING CODE 4710-25-P